DEPARTMENT OF ENERGY

Federal Energy Regulatory Commission

[Docket No. AD14-8-000]

Winter 2013-2014 Operations and Market Performance in Regional Transmission Organizations and Independent System Operators; Supplemental Notice of Technical Conference

As announced in the Notice issued on February 21, 2014,¹ the Federal Energy Regulatory Commission (Commission) will hold a Commissioner-led technical conference on Tuesday, April 1, 2014, from 9 a.m. to approximately 5 p.m. to discuss the impacts of recent cold weather events on the Regional Transmission Organizations/Independent System Operators (RTOs/ISOs), and discuss actions taken to respond during those occurrences. The conference will be held at the Federal Energy Regulatory Commission, 888 First Street NE., Washington, DC 20426. This conference is free of charge and open to the public. Commission members will participate in the conference. The agenda and list of participants for this conference are attached.

¹ Winter 2013-2014 Operations and Market Performance in Regional Transmission Organizations and Independent System Operators; Supplemental Notice of Technical Conference (http://www.ferc.gov/CalendarFiles/20140221164557-AD14-8-000TC.pdf).

Following the conference, the Commission will take written public comments until May 15, 2014.

If you have not already done so, those who plan to attend the technical conference are strongly encouraged to complete the registration form located at: https://www.ferc.gov/whats-new/registration/04-01-14-form.asp. There is no deadline to register to attend the conference.

The technical conference will be transcribed. Transcripts of the technical conference will be immediately available for a fee from Ace-Federal Reporters, Inc. (202-347-3700 or 1-800-336-6646). Additionally, there will be a free webcast of the conference. The webcast will allow persons to listen to the technical conference but not participate. Anyone with Internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100.²

² The webcast will continue to be available on the Calendar of Events on the Commission's website www.ferc.gov for three months after the conference.

Notice is also hereby given that the discussions at the conference may address matters at issue in the following Commission proceeding(s) that are either pending or within their rehearing period: Independent Market Monitor for PJM v. PJM Interconnection, L.L.C., Docket No. EL14-20; ISO New England Inc., et al., Docket No. ER13-1851; PJM Interconnection, L.L.C., Docket Nos. ER14-822, ER14-1144, ER14-1145 and ER14-1469; Indicated CAISO Suppliers, Docket No. ER14-1428; California Independent System Operator Corporation, Docket Nos. ER14-1440 and ER14-1442.

Commission conferences are accessible under section 508 of the Rehabilitation Act of 1973. For accessibility accommodations please send an email to accessibility@ferc.gov or call toll free (866) 208-3372 (voice) or (202) 502-8659 (TTY), or send a fax to (202) 208-2106 with the requested accommodations.

For more information about the technical conference, please contact:

Jordan Kwok (Technical Information), Office of Energy Policy and Innovation, Federal Energy Regulatory Commission, 888 First Street NE., Washington, DC 20426, (202) 502-6161, Jordan.Kwok@ferc.gov.

Sarah McKinley (Logistical Information), Office of External Affairs, Federal Energy Regulatory Commission, 888 First Street NE., Washington, DC 20426, (202) 502-8368, Sarah.McKinley@ferc.gov.

Dated: March 19, 2014.
Kimberly D. Bose,
Secretary.

Winter 2013-2014 Operations and Market Performance in Regional Transmission Organizations and Independent System Operators

Docket No. AD14-8-000

April 1, 2014

Agenda

The purpose of this technical conference is to explore the impacts of recent cold weather events on the Regional Transmission Organizations (RTOs) and Independent System Operators (ISOs) and discuss actions taken to respond to those impacts.

9:00am-9:15am Welcome and Opening Remarks

9:15am-10:00am Staff Presentation by the Federal Energy Regulatory Commission (FERC) Office of Enforcement

10:00am-12:30pm Panel 1: Presentations by RTOs/ISOs

Each RTO/ISO will have the opportunity to present for 20 minutes and is encouraged to explain: (1) The steps it took to prepare for the cold weather events; (2) the operational conditions leading into the day-ahead; (3) the operator actions taken to address events prior to day-ahead, day-ahead, and in real-time; (4) the information that was available from and provided to natural gas pipelines, natural gas marketers, electric generators, customers, and others, as appropriate; and (5) how it accounted for that information as part of its operations. The RTOs/ISOs should be prepared to discuss observations about regional market performance and lessons learned that would be relevant to improving performance of the Commission-regulated markets. Following each presentation, there will be time for questions from the Commissioners.

Panelists

• Brad Bouillon, California Independent System Operator

• Peter Brandien, ISO-New England

• Richard Doying, Midcontinent Independent System Operator

• Wes Yeomans, New York Independent System Operator

• Michael Kormos, PJM Interconnection

• Bruce Rew, Southwest Power Pool

12:30pm-1:30pm Lunch

1:30pm-3:45pm Panel 2: Stakeholders Discussion

Each panelist will have 10 minutes to provide information on the following three topics:

1. Experiences during the cold weather events: Describe experience and observations during the cold weather events, the information that was available to assist in preparation, and the actions taken in real-time to respond.

2. Lessons learned: Explain the most important lesson(s) learned, particularly as relevant to regional electric market prices and performance, adequacy of infrastructure, fuel procurement, and fuel diversity.

3. Policy implications: Share observations about changes that could be made to improve the performance of Commission-regulated markets during future extreme weather events. Panelists are encouraged to highlight any short-term operational, fuel procurement, or other changes that may be necessary before next winter. Additionally, they should share their views on any long-term improvements needed in the future more generally.

Panelists

• John Sturm, ACES Power Marketing

• Donald Sipe, American Forest & Paper

• Mark Stultz, BP

• Donald Schneider, First Energy

• David Devine, Kinder Morgan

• Paula Carmody, Maryland Office of the People's Counsel

• James Stanzione, National Grid

• Abraham Silverman, NRG

• Melvin Christopher, Pacific Gas & Electric

• James Tramuto, Southwestern Energy

During this panel, a representative from each RTO/ISO will be present to answer technical questions that arise.

3:45pm-4:00pm Break

4:00pm-5:00pm Roundtable Discussion with FERC Commissioners, State Commission Representatives, and RTOs/ISOs

FERC Commissioners and state commission representatives from each region will participate in a discussion with the representatives from the RTOs/ISOs to review what was heard during the day and consider lessons learned.

State Commission Representatives

• James Volz, Chair, Vermont Public Service Board

• Audrey Zibelman, Chair, New York State Public Service Commission:

• Lawrence Brenner, Commissioner, Maryland Public Service Commission

• Eric Callisto, Commissioner, Wisconsin Public Service Commission

• Donna Nelson, Chair, Public Utility Commission of Texas

• California Public Utilities Commission (invited)

5:00pm-5:15pm Closing

[FR Doc. 2014-06539 Filed 3-25-14; 8:45 am]

BILLING CODE 6717-01-P